NATIONAL AERONAUTICS AND SPACE ADMINISTRATION

[Notice (15-018)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: April 1, 2015.

FOR FURTHER INFORMATION CONTACT: Robert M. Padilla, Patent Counsel, Ames Research Center, Code 202A-4, Moffett Field, CA 94035-1000; telephone (650) 604-5104; fax (650) 604-2767.

NASA Case No.: ARC-17241-1: Optimum Strategies for Selecting Descent Flight-Path Angles;

NASA Case No.: ARC-17299-1: Unmanned Aerial Systems Traffic Management;

NASA Case No.: ARC-17085-1: Electromagnetic Monitoring and Control of a Plurality of Nanosatellites;

NASA Case No.: ARC-17266-1: Atmospheric Pressure Plasma Based Fabrication of Printable Electronics and Functional Coatings;

NASA Case No.: ARC-17335-1: A Simplified Production of Organic Compounds Containing High Enantiomer Excesses.

Sumara M. Thompson-King,
General Counsel.

[FR Doc. 2015-07452 Filed 3-31-15; 8:45 am]

BILLING CODE 7510-13-P